DEPARTMENT OF ENERGY

Federal Energy Regulatory Commission

Combined Notice of Filings #1

Take notice that the Commission received the following electric corporate filings:

Docket Numbers: EC13-107-000.

Applicants: Beech Ridge Energy LLC, Bishop Hill Energy LLC, Bishop Hill Energy III LLC, Bishop Hill Interconnection LLC, California Ridge Wind Energy LLC, Forward Energy LLC, Grand Ridge Energy LLC, Grand Ridge Energy II LLC, Grand Ridge Energy III LLC, Grand Ridge Energy IV LLC, Grand Ridge Energy V LLC, Gratiot County Wind LLC, Gratiot County Wind II LLC, Invenergy TN LLC, Judith Gap Energy LLC, Sheldon Energy LLC, Spring Canyon Energy LLC, Stony Creek Energy LLC, Vantage Wind Energy LLC, Willow Creek Energy LLC, Wolverine Creek Energy LLC, Wolverine Creek Goshen Interconnection L, Prairie Breeze Wind Energy LLC.

Description: Application for Authorization under Section 203 of the Federal Power Act and Request for Waivers and Expedited Action of Beech Ridge Energy LLC, et al.

Filed Date: 5/22/13.

Accession Number: 20130522-5141.

Comments Due: 5 p.m. ET 6/12/13.

Docket Numbers: EC13-108-000.

Applicants: Copper Mountain Solar 2, LLC.

Description: FPA Section 203 Application of Copper Mountain Solar 2, LLC.

Filed Date: 5/22/13.

Accession Number: 20130522-5143.

Comments Due: 5 p.m. ET 6/12/13.

Docket Numbers: EC13-109-000.

Applicants: Mesquite Solar 1, LLC.

Description: Mesquite Solar 1, LLC's FPA Section 203 Application.

Filed Date: 5/22/13.

Accession Number: 20130522-5145.

Comments Due: 5 p.m. ET 6/12/13.

Take notice that the Commission received the following electric rate filings:

Docket Numbers: ER13-1538-000.

Applicants: New England Power Company.

Description: Small Generator Interconnection Agreement Between NEP and Lawrence Hydroelectric to be effective 2/15/2013.

Filed Date: 5/22/13.

Accession Number: 20130522-5068.

Comments Due: 5 p.m. ET 6/12/13.

Docket Numbers: ER13-1539-000.

Applicants: Midcontinent Independent System Operator, Inc.

Description: 05-22-2013 SA 738 ATC-Wisconsin Amend GIA to be effective 5/23/2013.

Filed Date: 5/22/13.

Accession Number: 20130522-5129.

Comments Due: 5 p.m. ET 6/12/13.

Docket Numbers: ER13-1540-000.

Applicants: PJM Interconnection, L.L.C.

Description: Notice of Cancellation of Original SA No. 3043 in Docket No. ER11-4424-000 to be effective 4/19/2013.

Filed Date: 5/23/13.

Accession Number: 20130523-5023.

Comments Due: 5 p.m. ET 6/13/13.

Docket Numbers: ER13-1541-000.

Applicants: Campo Verde Solar, LLC.

Description: Application and Initial Baseline Tariff Filing to be effective 8/1/2013.

Filed Date: 5/23/13.

Accession Number: 20130523-5024.

Comments Due: 5 p.m. ET 6/13/13.

Docket Numbers: ER13-1542-000.

Applicants: Midcontinent Independent System Operator, Inc., Cleco Power LLC.

Description: Midcontinent Independent System Operator, Inc. submits 05-23-13 Cleco Attach O to be effective 12/19/2013.

Filed Date: 5/23/13.

Accession Number: 20130523-5039.

Comments Due: 5 p.m. ET 6/13/13.

Docket Numbers: ER13-1543-000.

Applicants: Southwest Power Pool, Inc.

Description: Submission of Notice of Cancellation of Large Generator Interconnection Agreement of Southwest Power Pool, Inc.

Filed Date: 5/23/13.

Accession Number: 20130523-5043.

Comments Due: 5 p.m. ET 6/13/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 23, 2013.
Nathaniel J. Davis, Sr.,
Deputy Secretary.

[FR Doc. 2013-13582 Filed 6-6-13; 8:45 am]

BILLING CODE 6717-01-P